DEPARTMENT OF TRANSPORTATION

Surface Transportation Board

Notice of Pub.lic Information Collection Submitted to OMB for Review

AGENCY: Surface Transportation Board, DOT.

ACTION: Extension of a currently approved collection.

SUMMARY: The Surface Transportation Board has submitted to the Office of Management and Budget for review and approval the following proposal for collection of information as required by the Paperwork Reduction Act of 1995, Public Law No. 104-13 (44 U.S.C. chapter 35).

Title: Annual Waybill Compliance Survey.

OMB Form Number: 2140-0010.

Frequency: Annually.

No. of Respondents: 600.

Total Burden Hours: 300.

DATES: Persons wishing to comment on this information collection should submit comments by September 26, 2003.

ADDRESSES: Direct all comments to the Surface Transportation Board, room 705, 1925 K Street, NW., Washington, DC 20423. When submitting comments refer to the OMB number and title of the information collection.

FOR FURTHER INFORMATION CONTACT: H. Jeff Warren, (202) 565-1533. Federal Information Relay Service (FIRS) for the hearing impaired: 1-800-877-8339. Requests for copies of the information collection may be obtained by contacting L. Scott Decker (202) 565-1531.

SUPPLEMENTARY INFORMATION: The Surface Transportation Board is, by statute, responsible for the economic regulation of surface transportation carriers operating in interstate and foreign commerce. The ICC Termination Act of 1995, Public Law No. 104-88, 109 Stat. 803 (1995), which took effect on January 1, 1996, abolished the Interstate Commerce Commission and transferred the responsibility for regulating rail transportation, including the collection and administration of the STB Carload Waybill Sample. The Board needs to collect annually information on railroad revenues and carloads of traffic terminated by U.S. railroads. The Board will use the information in order to classify railroads by revenue category and determine if they must participate in the STB Carload Waybill Sample. The Board has the Congressionally mandated responsibility to collect this information. The consequences of failure to collect data related to the STB Carload Waybill Sample and railroad revenues will be an inability to fulfill responsibilities under 49 U.S.C. 11144, 11145, 11901, 11326(b), 11327, and 11328(b), and 49 CFR 1244.2(f).

Dated: August 27, 2003.
Vernon A. Williams,
Secretary.

[FR Doc. 03-22308 Filed 8-28-03; 8:45 am]

BILLING CODE 4915-00-P